DEPARTMENT OF HEALTH AND HUMAN SERVICES

Administration for Children and Families

Submission for OMB Review; Comment Request

Title: Prenatal Alcohol and Other Drug Exposures in Child Welfare (PAODE-CW) Study.

OMB No.: New Collection.

Description: The Administration for Children and Families (ACF), U.S. Department of Health and Human Services (HHS) is proposing a data collection activity as part of the Prenatal Alcohol and Other Drug Exposures in Child Welfare (PAODE-CW) Study. The study examines the current state of child welfare practice regarding the identification and provision of services for children with prenatal substance exposures, including alcohol and other drugs.

The descriptive study will document the policies and practices of child welfare agencies and related organizations to identify, assess, and refer to services children who may have been exposed to prenatal substances and/or diagnosed with a resulting condition such as fetal alcohol spectrum disorders (FASD). The study will document procedures as well as challenges faced and lessons learned to inform the field of practice as well as policy makers, program administrators, and funders at various levels.

The proposed information collection activities consist of semi-structured interviews and surveys conducted at 28 child welfare agency sites. Focus groups conducted at 8 of the 28 sites will gather information on needs, challenges, and strategies to support children with prenatal substance exposures and their families within the child welfare system.

Respondents: State and child welfare agency directors, child welfare staff and supervisors; agency partners and service providers; and family members and caregivers of children who may have been prenatally exposed to substances.

Annual Burden Estimates
Instrument | Number of respondents | Number of responses per respondent | Average burden hours per response | Total burden hours
Interview Protocol for Local Agency Staff—Frontline Only | 28 | 1 | 1 | 28
Interview Protocol for Local Agency Staff—Ongoing Only | 28 | 1 | 1 | 28
Interview Protocol for Local Agency Staff—Frontline and Ongoing | 15 | 1 | 1.25 | 19
Interview Protocol for Local Agency Medical Staff | 14 | 1 | 1 | 14
Interview Protocol for Local Agency Director | 14 | 1 | 1 | 14
Focus Group of Caregivers | 32 | 1 | 1.5 | 48
Survey Instrument for Local Agency Staff—Form A General | 140 | 1 | .5 | 70
Survey Instrument for Local Agency—Form B General | 90 | 1 | .5 | 45
Survey Instrument for Local Agency Form B Differential Response | 50 | 1 | .5 | 25
Survey Instrument for Service Providers | 12 | 1 | .5 | 6
Interview Protocol for Data Staff | 6 | 1 | 1.5 | 9

Estimated Total Annual Burden Hours: 305.

Additional Information: Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2017-27600 Filed 12-21-17; 8:45 am]

BILLING CODE 4184-01-P